DEPARTMENT OF ENERGY

Federal Energy Regulatory Commission

[Project No. 2177-053]

Notice of Application and Applicant-Prepared EA Accepted for Filing, Soliciting Motions to Intervene and Protests, and Soliciting Comments, and Final Recommendations, Terms and Conditions, and Prescriptions

April 25, 2003.

Take notice that the following hydroelectric application and applicant-prepared environmental assessment has been filed with the Commission and is available for public inspection.

a. Type of Application: New Major License.

b. Project No.: P-2177-053.

c. Date filed: December 13, 2002.

d. Applicant: Georgia Power Company.

e. Name of Project: Middle Chattahoochee Project.

f. Location: On the Chattahoochee River, in Harris and Muscogee Counties, Georgia; Lee and Russell Counties, Alabama; near the cities of Columbus, Georgia and Phenix City Alabama. The project does not affect Federal lands.

g. Filed Pursuant to: Federal Power Act 16 U.S.C. 791 (a)—825(r).

h. Applicant Contact: Georgia Martin, Relicensing Project Manger, Georgia Power Company, 22nd Floor, Bin 10221, 241 Ralph McGill Blvd., NE., Atlanta, Georgia 30308, (404) 506-1357 or gamartin@southernco.com.

i. FERC Contact: Ronald McKitrick, (770) 452-3778 or ronald.mckitrick@ferc.gov.

j. Deadline for filing motions to intervene and protests, comments, and final recommendations, terms and conditions, and prescriptions: 60 days from the issuance of this notice.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Motions to intervene and protests, comments, recommendations, terms and conditions, and prescriptions may be filed electronically via the Internet in lieu of paper. The Commission strongly encourages electronic filings. See 18 CFR 385.2001(a)(1)(iii) and the instructions on the Commission's Web site ( http://www.ferc.gov ) under the “e-Filing” link.

k. This application has been accepted for filing.

l. The proposed Middle Chattahoochee Project includes three developments:

Goat Rock Development consisting of: (1) A 965-acre impoundment; (2) a 75foot-high concrete reinforced dam located at river mile (RM) 172.2; (3) a 909.5-foot-long fixed crest spillway structure topped with 4-foot-high wooden flashboards; (4) a 200-foot-long and 77-foot-long non-overflow section; (5) a 173-foot-long combined powerhouse and intake section; (6) four trash gates on the east end of the intake having a total length of 74 feet; (7) two new horizontal generating units (to replace 2 existing units) with a nameplate rating of 8.7 MW each, one horizontal generating unit with a nameplate rating of 6.9 MW, and three horizontal generating units with a nameplate rating of 5.0 MW; (8) a total generating capacity of 39.3 MW, a total hydraulic capacity of 9,877 cfs, and average annual generation of 151,120,490 kWh.

Oliver Development consisting of: (1) A 2,280-acre impoundment; (2) a 70-foot-high concrete reinforced dam located at RM 163.5; (3) a 1,324-foot-long gated spillway structure which includes 33 16-foot-high by 35-foot-long radial-arm taintor gates, and one 16-foot-high by 11-foot-long trash gate; (4) a 284-foot-long and 215-foot-long non-overflow section; (5) a 198-foot-long combined powerhouse and intake section; (6) three vertical generating units with a nameplate rating of 18 MW each, and one vertical generating unit with a nameplate rating of 6.0 MW; and (7) a total generating capacity of 60 MW, a total hydraulic capacity of 12,496 cfs, and average annual generation of 234,019,210 kWh.

North Highlands Development consisting of: (1) A 131-acre impoundment; (2) a 36foot-high concrete reinforced dam located at RM 162.5 (3) a curved 705-foot-long spillway section topped with 3.6-foot-high flashboards; (4) a 46-foot-long and 40-foot-long non-overflow section; (5) a 193-foot-long combined power house and intake section; (6) three vertical generating units with a nameplate rating of 9.2 MW each, and one vertical generating unit with a nameplate rating of 2.0 MW; (7) a total generating capacity of 29.6 MW, a total hydraulic capacity of 13,031 cfs, and average annual generation of 138,832,160 kWh.

The three developments of the Middle Chattahoochee Project have a total installed capacity of 128.9 megawatts (MW) and generates about 524,000 megawatt-hours (MWh) of electric energy annually. All generated power is utilized within the applicant's electric utility system.

m. A copy of the application is available for review at the Commission in the Public Reference Room or may be viewed on the Commission's Web site at http://www.ferc.gov using the “FERRIS” link. Enter the docket number excluding the last three digits in the docket number field to access the document. For assistance, contact FERC Online Support at FERCOnlineSupport@ferc.gov or toll-free at 1-866-208-3676, or for TTY, (202) 502-8659. A copy is also available for inspection and reproduction at the address in item h above.

Register online at http://www.ferc.gov/esubscribenow.htm to be notified via e-mail of new filings and issuances related to this or other pending projects. For assistance, contact FERC Online Support.

n. Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

The Commission directs, pursuant to section 4.34(b) of the Regulations (see Order No. 533 issued May 8, 1991, 56 FR 23108, May 20, 1991) that all comments, recommendations, terms and conditions and prescriptions concerning the application and APEA be filed with the Commission within 60 days from the issuance date of this notice. All reply comments must be filed with the Commission within 105 days from the date of this notice.

The application will be processed according to the following Hydro Licensing Schedule. Revisions to the schedule may be made as appropriate.

Notice soliciting final terms and conditions: April 2003.

Deadline for Agency Recommendations: June 2003.

Deadline for Reply Comments: August 2003.

Notice of the availability of the EA: November 2003.

Public Comments on EA due: January 2004.

Ready for Commission's decision on the application: April 2004.

Anyone may obtain an extension of time for these deadlines from the Commission only upon a showing of good cause or extraordinary circumstances in accordance with 18 CFR 385.2008.

All filings must (1) bear in all capital letters the title “PROTEST”, “MOTION TO INTERVENE”, “COMMENTS,” “REPLY COMMENTS,” “RECOMMENDATIONS,” “TERMS AND CONDITIONS,” or “PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

Magalie R. Salas,
Secretary.

[FR Doc. 03-10770 Filed 4-30-03; 8:45 am]

BILLING CODE 6717-01-P